COMMISSION ON CIVIL RIGHTS

Agenda and Notice of Public Meeting of the New Hampshire Advisory Committee

AGENCY: Commission on Civil Rights.

ACTION: Announcement of public meeting.

SUMMARY: Notice is hereby given, pursuant to the provisions of the rules and regulations of the U.S. Commission on Civil Rights (Commission), and the Federal Advisory Committee Act (FACA), that the New Hampshire State Advisory Committee to the Commission will convene a meeting on Monday, March 15, 2021 and Monday, April 19, 2021 at 4:00 p.m. (ET). The purpose of these meetings is to discuss dissemination of its report on solitary confinement in New Hampshire.

DATES: Monday, March 15, 2021 and Monday, April 19, 2021 from 4:00 p.m.-5:00 p.m. (ET).

ADDRESSES:

WEB Conference Link (video and audio): https://civilrights.webex.com/civilrights/j.php?MTID=m15325b42e09af8ae00e925a2a80b841a

Password: USCCR

Phone Only: 1-800-360-9505; Access code: 199 431 9451, #, #

FOR FURTHER INFORMATION CONTACT: Mallory Trachtenberg at mtrachtenberg@usccr.gov or by phone at (202) 809-9618.

SUPPLEMENTARY INFORMATION: These meetings are available to the public through the web link above. If joining only via phone, callers can expect to incur charges for calls they initiate over wireless lines, and the Commission will not refund any incurred charges. Individuals who are deaf, deafblind and hard of hearing. may also follow the proceedings by first calling the Federal Relay Service at 1-800-877-8339 and providing the Service with conference details found through registering at the web link above. To request additional accommodations, please email mtrachtenberg@usccr.gov at least 7 days prior to the meeting for which accommodations are requested.

Members of the public are entitled to make comments during the open period of the meeting. Members of the public may also submit written comments; the comments must be received in the Regional Programs Unit within 30 days following the meeting. Written comments may be emailed to Mallory Trachtenberg at mtrachtenberg@usccr.gov. Persons who desire additional information may contact the Regional Programs Unit at (202) 809-9618. Records and documents discussed during the meeting will be available for public viewing as they become available at www.facadatabase.gov. Persons interested in the work of this advisory committee are advised to go to the Commission's website, www.usccr.gov, or to contact the Regional Programs Unit at the above phone number or email address.

Agenda

I. Welcome and Roll Call

II. Announcements and Updates

III. Approval of Minutes

IV. Discussion: Project on Solitary Confinement in New Hampshire

V. Public Comment

VI. Next Steps

VII. Adjournment

Dated: February 11, 2021.
David Mussatt,
Supervisory Chief, Regional Programs Unit.

[FR Doc. 2021-03178 Filed 2-17-21; 8:45 am]

BILLING CODE P